DEPARTMENT OF THE INTERIOR

National Park Service

[NPS-WASO-NRNHL-DTS#-33010; PPWOCRADI0, PCU00RP14.R50000]

National Register of Historic Places; Notification of Pending Nominations and Related Actions

AGENCY: National Park Service, Interior.

ACTION: Notice.

SUMMARY: The National Park Service is soliciting electronic comments on the significance of properties nominated before November 6, 2021, for listing or related actions in the National Register of Historic Places.

DATES: Comments should be submitted electronically by December 6, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 5, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Marin County

Marin Art and Garden Center, 30 Sir Francis Drake Blvd., Ross, SG100007228

Merced County

Strand Theater, 655-661 West Main St., Merced, SG100007227

San Diego County

Inspiration Heights Historic District, Generally bounded by Sunset Blvd., Alameda Terr., St. James Pl., and Witherby St., San Diego, SG100007226

San Mateo County

Mathews, Arthur C. and Judith, House, 83 Wisteria Way, Atherton, SG100007224

ILLINOIS

Bureau County

Paddock, Colonel George H., House, 906 South Main St., Princeton, SG100007222

Cook County

Ramova Theater, 3508-3518 South Halsted St., Chicago, SG100007223

OHIO

Cuyahoga County

Garfield Terrace Apartments (Apartment Buildings in Ohio Urban Centers, 1870-1970 MPS), 13344 Euclid Ave., East Cleveland, MP100007225

Franklin County

Ohio Bell Southwestern Headquarters, 150 E Gay St., Columbus, SG100007231

OKLAHOMA

Garfield County

Liberty Federal Savings and Loan Association Building, 401 West Broadway Ave., Enid, SG100007233

Latimer County

Edwards-Hardaway Homestead and Cemetery, Norris Rd., 8 mi. NE of Red Oak, Red Oak vicinity, SG100007234

VERMONT

Franklin County

Perley Block, 366 Main St., Enosburg Falls, SG100007221

WISCONSIN

Grant County

Hinners, Carsten and Dora, House, 1195 West Main St., Platteville, SG100007229

Additional documentation has been received for the following resource:

NEVADA

Washoe County

First Church of Christ, Scientist (Additional Documentation), 501 Riverside Dr., Reno, AD99000939

(Authority: 36 CFR 60.13)

Dated: November 9, 2021.
Sherry A. Frear,
Chief, National Register of Historic Places/National Historic Landmarks Program.

[FR Doc. 2021-25311 Filed 11-18-21; 8:45 am]

BILLING CODE 4312-52-P